SECURITIES AND EXCHANGE COMMISSION

[Release No. 34-62602; File No. SR-CBOE-2010-069]

Self-Regulatory Organizations; Chicago Board Options Exchange, Incorporated; Notice of Filing and Immediate Effectiveness of Proposed Rule Change to Amend Its Minor Rule Violation Plan

July 29, 2010.

Correction

In notice document 2010-19332 beginning on page 47672 in the issue of Friday, August 6, 2010, make the following correction:

On page 47672, in the third column, in the document heading, the date is corrected to read as set forth above.

[FR Doc. C1-2010-19332 Filed 8-16-10; 8:45 am]

BILLING CODE 1505-01-D